GENERAL SERVICES ADMINISTRATION

41 CFR Appendix C to Chapter 301, 304-2, 304-3, and 304-6

[FTR Case 2016-301; Docket No. 2016-0008, Sequence 1]

RIN 3090-AJ69

Federal Travel Regulation (FTR); Clarification of Payment in Kind for Speakers at Meetings and Similar Functions

AGENCY: Office of Government-wide Policy, U.S. General Services Administration (GSA).

ACTION: Proposed rule.

SUMMARY: The General Services Administration (GSA) is proposing to amend the Federal Travel Regulation (FTR) to change the definition of “payment in kind.” As proposed, the new definition would provide that a full or partial waiver of registration fees by an organizing entity of a meeting or similar function is not considered a payment in kind to the agency when employees speak, participate in a panel, or present at the meeting or similar function in their official capacities, and registration fees are waived for all speakers, panelists, or presenters. This proposed amendment would also make miscellaneous related corrections.

DATES: Interested parties should submit written comments to the Regulatory Secretariat at one of the addresses shown below on or before October 14, 2016 to be considered in the formation of the final rule.

ADDRESSES: Submit comments identified by FTR Case 2016-301 by any of the following methods:

• Federal eRulemaking Portals: http://www.regulations.gov. Submit comments via the Federal eRulemaking portal by searching for “FTR Case 2016-301.” Select the link “Comment Now” that corresponds with “FTR Case 2016-301” and follow the instructions provided at the screen. Please include your name, company name (if any), and “FTR Case 2016-301” on your attached document.

• Mail: General Services Administration, Regulatory Secretariat Division (MVCB), Attn. Ms. Hada Flowers, 1800 F Street NW., Washington, DC 20405.

• Instructions: Please submit comments only and cite FTR Case 2016-301 in all correspondence related to this case. Comments received generally will be posted without change to http://www.regulations.gov, including any personal and/or business confidential information provided. To confirm receipt of your comment(s), please check www.regulations.gov approximately two to three days after submission to verify posting (except allow 30 days for posting of comments submitted by mail).

FOR FURTHER INFORMATION CONTACT: For clarification of content, contact Ms. Jill Denning, Program Analyst, Office of Government-wide Policy, at 202-208-7642. Contact the Regulatory Secretariat Division (MVCB), 1800 F Street NW., Washington, DC 20405, 202-501-4755, for information pertaining to status or publication schedules. Please cite FTR case 2016-301.

SUPPLEMENTARY INFORMATION:

A. Background

Under 31 U.S.C. 1353, as implemented in Federal Travel Regulation Chapter 304 (41 CFR chapter 304), agencies may accept payment of travel expenses from a non-Federal source for employees to attend meetings and similar functions. Currently, with respect to a waiver of registration fees, the FTR makes no distinction between employees who speak, serve on a panel, or deliver a presentation at a meeting or similar function, and other attendees.

Because employees speak at these types of events to further the missions of their agencies as a necessary and customary part of their work activities, GSA proposes to redefine the travel purpose codes found in Appendix C of Chapter 301, which agencies use for travel reporting purposes. GSA also proposes to change in Chapter 304 that payments in kind from non-Federal sources do not include waiver of registration-type fees for speakers, panelists, or presenters at these types of events when the fees are waived for all speakers, panelists, or presenters. The proposed amendment would permit an agency to accept a waived registration fee for the duration of a multi-day meeting or similar function, even if the employee is only presenting on one day. Other types of travel expenses paid for by a non-Federal source, such as transportation, lodging expenses, or other associated event- or similar function-related activities, will still need to be reviewed in accordance with the regulations stated in Chapter 304.

B. Executive Orders 12866 and 13563

Executive Orders (E.O.s) 12866 and 13563 direct agencies to assess all costs and benefits of available regulatory alternatives, and if regulation is necessary, to select regulatory approaches that maximize net benefits (including potential economic, environmental, public health and safety effects, distributive impacts, and equity). E.O. 13563 emphasizes the importance of quantifying both costs and benefits, of reducing costs, of harmonizing rules, and of promoting flexibility. This proposed rule is a significant regulatory action, and therefore, was subject to review under section 6(b) of E.O. 12866, Regulatory Planning and Review, dated September 30, 1993.

C. Regulatory Flexibility Act

This proposed rule will not have a significant economic impact on a substantial number of small entities within the meaning of the Regulatory Flexibility Act, 5 U.S.C. 601, et seq. This proposed rule is also exempt from Administrative Procedure Act per 5 U.S.C. 553 (a)(2), because it applies to agency management or personnel.

D. Paperwork Reduction Act

The Paperwork Reduction Act does not apply because the changes to the Federal Travel Regulation do not impose recordkeeping or information collection requirements, or the collection of information from offerors, contractors, or members of the public that require the approval of the Office of Management and Budget under 44 U.S.C. 3501, et seq.

E. Small Business Regulatory Enforcement Fairness Act

This proposed rule is also exempt from Congressional review prescribed under 5 U.S.C. 801 since it relates solely to agency management and personnel.

List of Subjects in 41 CFR Appendix C to Part 301, 304-2, 304-3, and 304-6

Government employees, travel and transportation expenses.

Dated: August 1, 2016.
Troy Cribb,
Associate Administrator, Office of Government-wide Policy.

For the reasons set forth in the preamble, under 5 U.S.C. 5701-5709, and 31 U.S.C. 1353, GSA proposes to amend 41 CFR Appendix C to chapter 301, and parts 304-2, 304-3, and 304-6 as set forth below:

PART 301—TEMPORARY DUTY (TDY) TRAVEL ALLOWANCES

1. The authority citation for 41 CFR part 301 continues to read as follows:

Authority: 5 U.S.C. 5707.

2. Amend Appendix C to Chapter 301, in the first table by—

a. Revising the entry for Travel Purpose Identifier, next to the data element Mission (Operational), in the “description” column; and

b. Revising the entry for Travel Purpose Identifier, next to the data element Conference-Other Than Training, in the “description” column.

The revisions read as follows:

Appendix C to Chapter 301—Standard Data Elements for Federal Travel [Traveler Identification]

Group name | Data elements | Description
* * * * * * *
Travel Purpose Identifier | Mission (Operational) | Travel to a particular site in order to perform operational or managerial activities. Travel to attend a meeting to discuss general agency operations, review status reports, or discuss topics of general interest. Examples: Employee's day-to-day operational or managerial activities, as defined by the agency, to include, but not be limited to: Hearings, site visit, information meeting, inspections, audits, investigations, and examinations. Travel to a conference to serve as a speaker, panelist, or provide information in one's official capacity.
* * * * * * *
| Conference—Other Than Training | Travel performed in connection with a prearranged meeting, retreat, convention, seminar, or symposium for consultation or exchange of information or discussion. Agencies have to distinguish between conference and training attendance and use the appropriate identifier (see Training below). Examples: To participate in a planned program as a host, planner, or others designated to oversee the conference or attendance with no formal role, or as an exhibitor.
* * * * * * *

* * * * *

PART 304-2—DEFINITIONS

3. The authority citation for part 304-2 continues to read as follows:

Authority: 5 U.S.C. 5707; 31 U.S.C. 1353.

4. Amend § 304-2.1 by—

a. Removing from the definition “Meeting(s) or similar functions (meeting)”, introductory text, “(i.e., a function that is essential to an agency's mission)”.

b. Revising the second sentence of the definition “Payment in kind”; and

c. Revise the last two sentences of the definitions “Travel, subsistence, and related expenses (travel expenses)”.

The revisions read as follows:

§ 304-2.1 What definitions apply to this chapter?

* * * * *

Payment in kind * * * Payment in kind also includes waiver of any fees that a non-Federal source collects from meeting attendees (e.g., registration fees), unless the employee attending the meeting or similar function is serving as a speaker, panelist, or presenter, and the fee is waived for all speakers, panelists, or presenters at the event.

* * * * *

Travel, subsistence, and related expenses (travel expenses) * * * The Foreign Affairs Manual is available for download from the internet at FAM.state.gov. The Joint Travel Regulations are available for download at http://www.defensetravel.dod.mil/site/travelreg.cfm.

PART 304-3—EMPLOYEE RESPONSIBILITY

5. The authority citation for part 304-3 continues to read as follows:

Authority: 5 U.S.C. 5707; 31 U.S.C. 1353.

6. Add § 304-3.10 to read as follows:

§ 304-3.10 If I am asked or assigned to participate as a speaker, panelist, or presenter at a meeting or similar function, and the organizing entity of the event waives the registration fee for all speakers, panelists, or presenters, is that a payment in kind?

No. A full or partial waiver of a registration fee by the organizing entity of the event is not a payment in kind when provided to speakers, panelists, or presenters.

Note to § 304-3.10: If registration fees are not waived for all speakers, panelists, or presenters, and instead are waived only for the Federal speakers, panelists, or presenters, then the waiver is considered to be a payment in kind, and must be reviewed under the procedures set forth in this chapter.

PART 304-6—PAYMENT GUIDELINES

7. The authority citation for part 304-6 continues to read as follows:

Authority: 5 U.S.C. 5707; 31 U.S.C. 1353.

8. Amend § 304-6.6 by revising paragraph (a) to read as follows:

§ 304-6.6 How do we determine the value of payments in kind that are to be reported on Standard Form (SF) 326?

* * * * *

(a) For conference, training, or similar fees waived or paid by a non-Federal source, you must report the amount charged to other participants, unless the employee attended the meeting or similar function as a speaker, panelist, or presenter, and the registration fee was waived for all speakers, panelists, or presenters by the organizing entity of the event.

* * * * *

[FR Doc. 2016-18556 Filed 8-12-16; 8:45 am]

BILLING CODE 6820-14-P